DEPARTMENT OF THE INTERIOR

Office of the Secretary

[256A2100DD; AAKP300000; A0A501010.000000]

Notice of Adoption of Categorical Exclusion Under Section 109 of the National Environmental Policy Act

AGENCY: Office of the Secretary, Interior.

ACTION: Notice.

SUMMARY: The Department of the Interior (Department) is notifying the public and documenting the adoption of the Indian Health Service (IHS) categorical exclusion (CE) for actions associated with construction of sanitation facilities to serve Indian homes and communities, under section 109 of the National Environmental Policy Act (NEPA). The CE is adopted for use by the Bureau of Indian Affairs (BIA). In accordance with section 109, this notice identifies the types of actions to which BIA will apply the CE, the considerations that BIA will use in determining the applicability of the CE, and the consultation between the agencies on the use of the CE, including application of extraordinary circumstances.

DATES: The adoption is effective June 27, 2025.

FOR FURTHER INFORMATION CONTACT: Justine Vaivai, Environmental Protection Specialist, Environmental Services, BIA, justine.vaivai@bia.gov.

SUPPLEMENTARY INFORMATION:

Background

Program Background

Installation of sanitation facility infrastructure is critical across Indian Country. IHS often works with BIA for these important projects. As a funding agency, IHS conducts NEPA analysis for the construction of the waterlines and sanitation facilities. Meanwhile, BIA often has an associated action such as the approval of a lease, right-of-way, or easement for the project to proceed, and therefore has NEPA compliance responsibilities. In most instances, both IHS and BIA are involved in a waterline or a sanitary facility project; however, through adoption of IHS's CE, the BIA could rely on IHS's CE in such circumstances, as well as when making decisions about waterline or sanitary facility projects when IHS is not involved.

Adoption by BIA of the IHS categorical exclusion will allow for consistent and efficient environmental reviews between the two agencies in project development, providing more predictability for applicants. IHS has effectively utilized their CE to support approval of approximately 2,400 projects between 2019-2024 across Indian Country.

National Environmental Policy Act and Categorical Exclusions

The National Environmental Policy Act, as amended, 42 U.S.C. 4321-4347 (NEPA), requires all Federal agencies to consider the environmental impact of their proposed actions before deciding whether and how to proceed. 42 U.S.C. 4321, 4332. NEPA's aims are to ensure agencies consider the environmental effects of their proposed actions in their decision-making processes and inform and involve the public in that process. 42 U.S.C. 4331.

Under NEPA as amended, a Federal agency can establish CEs—categories of actions that normally do not have a significant effect on the human environment, individually or in the aggregate, and therefore do not require preparation of an environmental assessment (EA) or an environmental impact statement (EIS)—in their agency NEPA procedures. 42 U.S.C. 4336e(1). If an agency determines that a CE covers a proposed action, it then evaluates the proposed action for extraordinary circumstances in which a normally excluded action may have a significant effect. If no extraordinary circumstances are present, the agency may apply the CE to the proposed action without preparing an EA or EIS. 42 U.S.C. 4336(a)(2).

Section 109 of NEPA, enacted as part of the Fiscal Responsibility Act of 2023, allows a Federal agency to “adopt” or use another agency's CE for a category of proposed agency actions. 42 U.S.C. 4336c. To use another agency's CE under section 109, the adopting agency must identify the relevant CE listed in another agency's (“establishing agency”) NEPA procedures that cover the adopting agency's category of proposed actions or related actions; consult with the establishing agency to ensure that the proposed adoption of the CE for a category of actions is appropriate; identify to the public the CE that the adopting agency plans to use for its proposed actions; and document adoption of the CE. 42 U.S.C. 4336c. The BIA has prepared this notice to describe how it has met applicable statutory requirements for the adoption of IHS CE “J. Construction of Sanitation Facilities” and to notify the public.

The Department NEPA procedures are codified at 43 CFR part 46. These procedures address compliance with NEPA. The Department's protocol for application of CEs is at 43 CFR 46.205. The Department's CEs available to all bureaus within the Department are listed in 43 CFR 46.210. Additional Department-wide NEPA policy is found in the Department's Departmental Manual (DM), in chapters 1 through 4 of part 516. Supplementary NEPA procedures for the Department's bureaus are published in additional chapters in part 516 of the DM. Chapter 10 of the 516 DM covers the BIA's NEPA procedures and the BIA CEs are listed in 516 DM chapter 10.5.

Categorical Exclusion That Is Adopted

BIA has identified the following IHS CE, found in the Federal Register Notice, National Environmental Policy Act; Categorical Exclusions (58 FR 569, Jan. 6, 1993) for adoption.

J. Construction of Sanitation Facilities—Actions associated with construction of sanitation facilities to serve Indian homes and communities, except that the following actions are not excluded: (1) Construction of a sanitary landfill at a new solid waste disposal site, and (2) Construction of a new wastewater treatment facility with direct discharge of treated sewage to surface waters.

Consultation With IHS and Determination of Appropriateness

BIA consulted with IHS on the appropriateness of BIA's adoption of the CE in May through July 2024. The consultation included a review of IHS's experience developing and applying the CE, as well as the types of actions for which BIA plans to utilize the CE. The BIA is often involved in IHS's sanitation projects and is familiar with the environmental effects of these projects; the BIA expects that the environmental effects of BIA's actions will be similar to the effects of IHS's sanitation projects approved in reliance on their CE, which have not been significant. Therefore, BIA has determined that its adoption of the CE as described in this notice is appropriate.

Consideration of Extraordinary Circumstances

When applying this CE, responsible officials within BIA will evaluate proposed actions covered by the CE to determine whether any extraordinary circumstances are present. The Department's extraordinary circumstances are listed at 43 CFR 46.215 and include, in part, consideration of impacts on public health and safety; natural resources; unique geographic characteristics; historic or cultural resources; park, recreation, or refuge lands; wilderness areas; wild or scenic rivers; national natural landmarks; sole or principal drinking water aquifers; prime farmlands; wetlands; floodplains; national monuments; migratory birds; other ecologically significant or critical areas; unresolved conflicts concerning alternative uses of available resources; unique or unknown environmental risks; precedent for future decision-making; historic properties; listed species or critical habitat; access by Indian religious practitioners to, and for ceremonial use of, Indian sacred sites and the physical integrity of those sites; and contribution to the introduction, continued existence, or spread of invasive weeds or non-native invasive species. The Department's list of extraordinary circumstances addresses issues comparable to the issues addressed by the IHS's extraordinary circumstances found at 58 FR 569 (Jan. 6, 1993). Therefore, responsible officials within BIA intending to rely on this CE will review whether the proposed action has the potential to result in significant effects as described in the Department's extraordinary circumstances. The responsible official will assess whether an extraordinary circumstance is present according to 43 CFR 46.205 and 46.215. If the responsible official cannot rely on a CE to support a decision to authorize or take a particular proposed action due to extraordinary circumstances, the responsible official will prepare an EA or EIS before doing so, consistent with 43 CFR 46.205(c).

Notice to the Public and Documentation of Adoption

This notice identifies to the public BIA's adoption of the IHS CE. The notice identifies the types of actions to which BIA would apply the CE, as well as the considerations that BIA would use in determining whether an action is within the scope of the CE. The documentation of the adoption will also be available at https://www.bia.gov/service/nepa-compliance and at https://www.doi.gov/oepc/nepa/categorical-exclusions. The BIA will add the adopted CE to the BIA's NEPA DM Chapter at 516 DM 10.

Authorities

National Environmental Policy Act of 1969, as amended (42 U.S.C. 4321 et seq.).

Stephen G. Tryon,
Director, Office of Environmental Policy and Compliance.

[FR Doc. 2025-11921 Filed 6-26-25; 8:45 am]

BILLING CODE 4337-15-P